DEPARTMENT OF AGRICULTURE

Farm Service Agency

[Docket ID: FSA-2022-0003]

Information Collection Request; Servicing Minor Program Loans

AGENCY: Farm Service Agency, USDA.

ACTION: Notice and request for comments.

SUMMARY: In accordance with the Paperwork Reduction Act of 1995, the Farm Service Agency (FSA) is requesting comments from all interested individuals and organizations on an extension of a currently approved information collection to support the Servicing Minor Program Loans.

DATES: We will consider comments that we receive by April 19, 2022.

ADDRESSES: We invite you to submit comments on this notice. You may submit comments, identified by Docket ID: FSA-2022-0003, in the Federal eRulemaking Portal: Go to http://www.regulations.gov. Follow the online instructions for submitting comments.

You may also send comments to the Desk Officer for Agriculture, Office of Information and Regulatory Affairs, Office of Management and Budget, Washington, DC 20503.

FOR FURTHER INFORMATION CONTACT: Steven R. Dusek, (580) 580-3018 or by email: steven.dusek@usda.gov. Persons with disabilities who require alternative means for communication should contact the USDA Target Center at (202) 720-2600 or (844) 433-2774 (toll-free nationwide).

SUPPLEMENTARY INFORMATION: Title: Servicing Minor Program Loans.

OMB Control Number: 0560-0230.

Expiration Date: June 30, 2022.

Type of Request: Extension.

Abstract: Section 331(b) of the Consolidated Farm and Rural Development Act (CONACT, 7 U.S.C. 1981(b)), in part, authorizes the Secretary of Agriculture to modify, subordinate and release terms of security instruments, leases, contracts, and agreements entered by FSA. That section also authorizes transfers of security property, as the Secretary deems necessary, to carry out the purpose of the loan or protect the Government's financial interest. Section 335 of the CONACT (7 U.S.C. 1985) provides servicing authority for real estate security; operation or lease of realty; disposition of property; conveyance of real property interest of the United States; easements; and condemnations.

The information collection relates to a program benefit recipient or loan borrower requesting action on security they own, which was purchased with FSA loan funds, improved with FSA loan funds or has otherwise been mortgaged to FSA to secure a Government loan. The information collected is primarily financial data not already on file, such as borrower asset values, current financial information and public use and employment data. There are no changes to the burden hours since the last OMB approval.

For the following estimated total annual burden on respondents, the formula used to calculate the total burden hour is the estimated average time per responses hours multiplied by the estimated total annual responses.

Estimate of Annual Burden: Public reporting burden for this collection of information is estimated to average 0.64 hours per response.

Type of Respondents: Individuals, associations, partnerships, or corporations.

Estimated Number of Respondents: 58.

Estimated Annual Number of Responses per Respondent: 1.

Estimated Total Annual of Responses: 58.

Estimated Average Time per Responses: 0.64 hours.

Estimated Total Annual Burden on Respondents: 37 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Zach Ducheneaux,
Administrator, Farm Service Agency.

[FR Doc. 2022-03547 Filed 2-17-22; 8:45 am]

BILLING CODE 3410-05-P